DEPARTMENT OF THE INTERIOR

Fish and Wildlife Service

[FWS-R1-ES-2011-N106; 10120-1113-0000-F5]

Endangered Plants and Wildlife; Receipt of Application for Enhancement of Survival Permit

AGENCY: Fish and Wildlife Service, Interior.

ACTION: Notice of availability of permit application; request for comments.

SUMMARY: In accordance with the requirements of the Endangered Species Act of 1973, as amended (Act), we, the U.S. Fish and Wildlife Service (Service), invite the public to comment on applications for permits to conduct enhancement of survival activities with endangered species.

DATES: To ensure consideration, please send your written comments by July 8, 2011.

ADDRESSES: Comments can be sent to the Endangered Species Program Manager, Ecological Services, U.S. Fish and Wildlife Service, 911 NE 11th Avenue, Portland, OR 97232-4181.

FOR FURTHER INFORMATION CONTACT: Grant Canterbury, Fish and Wildlife Biologist, at the above address or by telephone (503-231-6131) or fax (503-231-6243).

SUPPLEMENTARY INFORMATION: The following applicant has applied for a recovery permit to conduct certain activities with endangered species under section 10(a)(1)(A) of the Act (16 U.S.C. 1531 et seq.). We are soliciting review of and comments on the application by local, State, and Federal agencies, and the public.

Permit No. TE-043638

Applicant: Directorate of Public Works, U.S. Army, Schofield Barracks, Hawaii.

The permittee requests a permit amendment to take (collect for captive propagation, collect genetic samples, and reintroduce or translocate) Oahu tree snails (Achatinella spp.) on Oahu Island, Hawaii, in conjunction with life-history studies for the purpose of enhancing their survival. This permit currently covers more limited take (capture, mark, release, and salvage) of the Oahu tree snails, as well as take of the Hawaiian picture-wing flies (Drosophila aglaia, D. hemipeza, D. montgomeryi, D. obatai, D. substenoptera, and D. tarphytrichia) and Oahu elepaio (Chasiempis sandwichensis ibidis), and removal and reduction to possession of Chamaescyce herbstii (akoko), Hesperomannia arbuscula (no common name), Hedyotis coriacea (kio'ele), Phyllostegia kaalaensis (no common name), and Schiedea kaalae (no common name), for which notices were originally published in the Federal Register on July 20, 2005 (70 FR 41786), August 6, 2006 (71 FR 47242), November 16, 2007 (72 FR 64665), and June 17, 2008 (73 FR 34312).

Public Comments

We are soliciting public review and comment on this recovery permit application. Submit written comments to the Endangered Species Program Manager (see address above). Before including your address, phone number, email address, or other personal identifying information in your comment, you should be aware that your entire comment—including your personal identifying information—may be made publicly available at any time. While you can ask us in your comment to withhold your personal identifying information from public review, we cannot guarantee that we will be able to do so.

Please refer to the appropriate permit number for the application when submitting comments. All comments and materials we receive in response to this request will be available for public inspection, by appointment, during normal business hours at the above address.

Dated: May 21, 2011.
Richard R. Hannan,
Acting Regional Director, Region 1, U.S. Fish and Wildlife Service.

[FR Doc. 2011-14206 Filed 6-7-11; 8:45 am]

BILLING CODE 4310-55-P